DEPARTMENT OF LABOR

Employment and Training Administration

[TA-W-39,678]

Cooper Bussman, Black Mountain, NC; Notice of Termination of Investigation

Pursuant to section 221 of the Trade Act of 1974, an investigation was initiated on July 23, 2001, in response to a worker petition which was filed by the company on behalf of workers at Cooper Bussman, Black Mountain, North Carolina.

The petitioner has requested that the petition be withdrawn. Consequently, further investigation in this case would serve no purpose, and the investigation has been terminated.

Signed in Washington, DC this 31st day of July, 2001.
Linda G. Poole,
Certifying Officer, Division of Trade Adjustment Assistance.

[FR Doc. 01-20546 Filed 8-14-01; 8:45 am]

BILLING CODE 4510-30-M